DEPARTMENT OF HOMELAND SECURITY

Federal Emergency Management Agency

[Docket ID FEMA-2024-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of September 26, 2024 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Nicholas A. Shufro,
Assistant Administrator (Acting) for Risk Management, Federal Emergency Management Agency, Department of Homeland Security.

Community | Community map repository address
Craighead County, Arkansas and Incorporated Areas
Docket Nos.: FEMA-B-2072, FEMA-B-2118 and FEMA-B-2303
City of Bay | City Hall, 220 Elder Street, Bay, AR 72411.
City of Bono | City Hall, 241 East College Street, Bono, AR 72416.
City of Brookland | City Hall, 613 Holman, Brookland, AR 72417.
City of Caraway | City Hall, 102 East State Street, Caraway, AR 72419.
City of Cash | City Hall, 4391 Highway 18, Cash, AR 72421.
City of Jonesboro | City Hall, 300 South Church Street, Jonesboro, AR 72401.
City of Lake City | City Hall, 406 Court Street, Lake City, AR 72437.
City of Monette | City Hall, 1 Drew Avenue, Monette, AR 72447.
Town of Black Oak | Town Hall, 205 South Main Street, Black Oak, AR 72414.
Town of Egypt | Town Hall, 11603 Highway 91, Egypt, AR 72427.
Unincorporated Areas of Craighead County | Craighead County Annex, 511 Union, Room 119, Jonesboro, AR 72401.
Weld County, Colorado and Incorporated Areas
Docket No.: FEMA-B-2343
City of Longmont | Development Services Center, 385 Kimbark Street, Longmont, CO 80501.
Town of Firestone | Town Hall, 9950 Park Avenue, Firestone, CO 80504.
Town of Frederick | Town Hall, 401 Locust Street, Frederick, CO 80530.
Town of Mead | Town Hall, 441 3rd Street, Mead, CO 80542.
Unincorporated Areas of Weld County | Weld County Administrative Building, 1150 O Street, Greeley, CO 80631.
Miami County, Kansas and Incorporated Areas
Docket No.: FEMA-B-2325
City of Osawatomie | City Hall, Code Enforcement Office, 439 Main Street, Osawatomie, Kansas 66064.
Unincorporated Areas of Miami County | Miami County Administration Building, 201 South Pearl Street, Suite 201, Paola, Kansas 66071.
Baraga County, Michigan (All Jurisdictions)
Docket No.: FEMA-B-2355
Keweenaw Bay Indian Community L'Anse Reservation | Keweenaw Bay Tribal Center, 16429 Beartown Road, Baraga, MI 49908.
Township of Arvon | Skanee Town Hall, 20986 Park Road, Skanee, MI 49962.
Township of Baraga | Township Building, 13919 State Highway M-38, Baraga, MI 49908.
Township of Covington | Township Multi-Purpose Building, 12898 Highway M28, Covington, MI 49919.
Township of L'Anse | Township Hall, 126 North Main Street, L'Anse, MI 49946.
Village of Baraga | Village Hall, 100 Hemlock Street, Baraga, MI 49908.
Village of L'Anse | Village Hall, 101 North Main Street, L'Anse, MI 49946.
Dodge County, Minnesota and Incorporated Areas
Docket No.: FEMA-B-2345
City of Dodge Center | City Hall, 35 East Main Street, Dodge Center, MN 55927.
City of Hayfield | City Hall, 18 West Main Street, Hayfield, MN 55940.
City of Kasson | City Hall, 401 5th Street SE, Kasson, MN 55944.
City of Mantorville | City Hall, 21 5th Street East, Mantorville, MN 55955.
Unincorporated Areas of Dodge County | Dodge County Environmental Services Department, 721 Main Street North, Department 123, Mantorville, MN 55955.
Pope County, Minnesota and Incorporated Areas
Docket Nos.: FEMA-B-2128 and B-2315
City of Cyrus | City Hall, 126 West Main Street, Cyrus, MN 56323.
City of Glenwood | City Hall, 100 17th Avenue NW, Glenwood, MN 56334.
City of Long Beach | Long Beach City Hall, 23924 North Lakeshore Drive, Glenwood, MN, 56334.
City of Starbuck | City Hall, 307 East 5th Street, Starbuck, MN 56381.
Unincorporated Areas of Pope County | Pope County Courthouse, 130 East Minnesota Avenue, Glenwood, MN 56334.
Broadwater County, Montana and Incorporated Areas
Docket No.: FEMA-B-2320
Unincorporated Areas of Broadwater County | Broadwater County Courthouse, 515 Broadway Street, Townsend, MT 59644.
Athens County, Ohio and Incorporated Areas
Docket No.: FEMA-B-1340, FEMA-B-2257
City of Athens | City Hall, 8 East Washington Street, Athens, OH 45701.
City of Nelsonville | City Hall, 211 Lake Hope Drive, Nelsonville, OH 45764.
Unincorporated Areas of Athens County | Athens County Courthouse, 1 South Court Street, Athens, OH 45701.
Village of Buchtel | Village Mayor's Office, 17710 Akron Avenue, Buchtel, OH 45716.
Village of Chauncey | City Building, 42 Converse Street, Chauncey, OH 45719.
Powhatan County, Virginia (All Jurisdictions)
Docket No.: FEMA-B-2323
Unincorporated Areas of Powhatan County | Powhatan County Administration Building, 3834 Old Buckingham Road, Suite F, Powhatan, VA 23139.

[FR Doc. 2024-12529 Filed 6-6-24; 8:45 am]

BILLING CODE 9110-12-P